DEPARTMENT OF DEFENSE

GENERAL SERVICES ADMINISTRATION

NATIONAL AERONAUTICS AND SPACE ADMINISTRATION

48 CFR Parts 2, 4, 9, 12, 19 and 52

[FAR Case 2015-022; Docket No. 2015-0022; Sequence No. 1]

RIN 9000-AN00

Federal Acquisition Regulation; Unique Identification of Entities Receiving Federal Awards

AGENCY: Department of Defense (DoD), General Services Administration (GSA), and National Aeronautics and Space Administration (NASA).

ACTION: Proposed rule.

SUMMARY: DoD, GSA, and NASA are proposing to amend the Federal Acquisition Regulation (FAR) to re-designate the terminology for unique identification of entities receiving Federal awards. The change to the FAR will remove the proprietary standard or number.

DATES: Interested parties should submit written comments to the Regulatory Secretariat at one of the addresses shown below on or before January 19, 2016 to be considered in the formulation of a final rule.

ADDRESSES: Submit comments in response to FAR Case 2015-022 by any of the following methods:

• Regulations.gov: http://www.regulations.gov. Submit comments via the Federal eRulemaking portal by searching for “FAR Case 2015-022”. Select the link “Comment Now” that corresponds with FAR Case 2015-022. Follow the instructions provided at the “Comment Now” screen. Please include your name, company name (if any), and “FAR Case 2015-022” on your attached document.

• Mail: General Services Administration, Regulatory Secretariat (MVCB), ATTN: Ms. Flowers, 1800 F Street NW., 2nd Floor, Washington, DC 20405.

Instructions: Please submit comments only and cite FAR Case 2015-022, in all correspondence related to this case. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Edward Loeb, Procurement Analyst, at 202-501-0650, for clarification of content. For information pertaining to status or publication schedules, contact the Regulatory Secretariat at 202-501-4755. Please cite FAR Case 2015-022.

SUPPLEMENTARY INFORMATION:

I. Background

DoD, GSA, and NASA are proposing to amend the Federal Acquisition Regulation (FAR) to re-designate the terminology for unique identification of entities receiving Federal awards. The change to the FAR will remove the proprietary standard or number. Unique identification of such entities is critical to ensure Federal dollars are awarded to responsible parties, awardees are paid in a timely manner, and awards are appropriately recorded and reported. This is currently accomplished through regulation (i.e., the FAR) using the proprietary Data Universal Numbering System (DUNS®) number from Dun and Bradstreet. This rule proposes to eliminate references to the proprietary standard or number and to provide appropriate references to the Web site where information on the unique entity identifier used for Federal contractors will be located. In addition, the proposed rule establishes definitions of “unique entity identifier”, and “electronic funds transfer (EFT) indicator”.

In recent years, legislation has been enacted (e.g., the Federal Funding Accountability and Transparency Act and the Digital Accountability and Transparency Act) that requires expanded identification of entities working with the Government and the development of standards, processes, and policies to better trace Federal dollars from appropriation to final outcomes or results. Creation and maintenance of data standards will facilitate collection and display of essential information. A data standard for identification of entities receiving Federal awards has been developed as part of the implementation for the Digital Accountability and Transparency Act and is available at http://fedspendingtransparency.github.io/whitepapers/unique-id-business-name/.

Going forward, the Federal Government will establish a transparent process for exploring potential alternatives to existing entity identifiers. Office of Management and Budget (OMB) and Treasury, in collaboration with the General Services Administration and the Award Committee for E-Government will establish a process for considering options, including soliciting information about viable alternatives from and reaching out about nonproprietary alternatives to all sectors, including private companies, nonprofits, and Federal government providers. This process will result in an analysis of alternatives for the unique identification of entities working with the Federal government while maintaining the statutory and regulatory integrity protections for the needs of the various awarding communities (loans, financial assistance, procurement, etc.) as well as transparency communities. The analysis of alternatives will include consideration of costs, implementation considerations, and protections for Federal taxpayers. The analysis of alternatives is anticipated to be completed in Fiscal Year (FY) 2017.

Although the Government is not currently in a position to move away from use of the DUNS number in the short term, elimination of regulatory references to a proprietary entity identifier will provide opportunities for future competition that can reduce costs to taxpayers. The current requirement limits competition by using a proprietary number and organization to meet the identification need as well as the need for other business information associated with that number.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

III. Regulatory Flexibility Act

DoD, GSA, and NASA do not expect this rule to have a significant economic impact on a substantial number of small entities within the meaning of the Regulatory Flexibility Act, 5 U.S.C. 601, et seq. However, an Initial Regulatory Flexibility Analysis (IRFA) has been prepared consistent with 5 U.S.C. 605. The IRFA is summarized as follows:

The rule is being proposed to remove a proprietary standard or number for the unique identification of entities receiving Federal awards. The current requirement limits competition by using a proprietary number and organization to meet the identification needs.

Unique identification of such entities is critical to ensure Federal dollars are awarded to responsible parties, awardees are paid in a timely manner, and awards are appropriately recorded and reported. This is currently accomplished through regulation in the FAR using the proprietary Data Universal Numbering System (DUNS®) number from Dun and Bradstreet. This rule proposes to eliminate references to the proprietary standard or number, and to provide appropriate references to the Web site where information on the unique entity identifier used for Federal contractors will be designated.

Although the Government does not intend to move away from use of the DUNS number in the short term, elimination of regulatory references to a proprietary entity identifier will provide opportunities for future competition that can reduce costs to taxpayers.

The proposed rule is internal to the Government and does not directly impose any requirements on the vendor community. However, the rule may affect certain entities if those entities have arranged certain of their business systems to utilize, accept, or otherwise recognize the existing unique identifier (DUNS Number) and should that unique identifier be changed at some point to another identifier. As of June 2015, there were 380,092 unique and active DUNS numbers designated in the System for Award Management and attributed to Government contracting.

There is no change to recordkeeping as a result of this rule.

The rule does not duplicate, overlap, or conflict with any other Federal rules.

There are no known significant alternative approaches to the rule that would meet the requirements.

The Regulatory Secretariat has submitted a copy of the IRFA to the Chief Counsel for Advocacy of the Small Business Administration. A copy of the IRFA may be obtained from the Regulatory Secretariat. DoD, GSA, and NASA invite comments from small business concerns and other interested parties on the expected impact of this rule on small entities.

DoD, GSA, and NASA will also consider comments from small entities concerning the existing regulations in subparts affected by the rule in accordance with 5 U.S.C. 610. Interested parties must submit such comments separately and should cite 5 U.S.C. 610 (FAR Case 2015-022), in correspondence.

IV. Paperwork Reduction Act

The rule does not contain any information collection requirements that require the approval of the Office of Management and Budget under the Paperwork Reduction Act (44 U.S.C. chapter 35).

List of Subjects in 48 CFR Parts 2, 4, 9, 12, 19 and 52

Government procurement.

William Clark,
Director, Office of Government-wide Acquisition Policy, Office of Acquisition Policy, Office of Government-wide Policy.

Therefore, DoD, GSA, and NASA propose amending 48 CFR parts 2, 4, 9, 12, 19 and 52 as set forth below:

1. The authority citation for 48 CFR parts 2, 4, 9, 12, 19 and 52 continues to read as follows:

Authority: 40 U.S.C. 121(c); 10 U.S.C. chapter 137; and 51 U.S.C. 20113.

PART 2—DEFINITIONS OF WORDS AND TERMS

2. Amend section 2.101, in paragraph (b)(2) by—

a. Removing the definitions “Data Universal Numbering System (DUNS) number” and “Data Universal Numbering System +4 (DUNS+4) number”;

b. Adding, in alphabetical order the definition “Electronic Funds Transfer (EFT) indicator”;

c. Revising paragraph (1) of the definition “Registered in the System for Award Management (SAM) database”; and

d. Adding, in alphabetical order, the definition, “Unique entity identifier”.

The added and revised text reads as follows:

2.101 Definitions.

* * * * *

(b) * * *

(2) * * *

Electronic Funds Transfer (EFT) indicator means a four-character suffix to the unique entity identifier. The suffix is assigned at the discretion of the commercial, non-profit, or Government entity to establish additional System for Award Management records for identifying alternative Electronic Funds Transfer (EFT) accounts (see subpart 32.11) for the same entity.

* * * * *

Registered in the System for Award Management (SAM) database * * *

(1) The Contractor has entered all mandatory information, including the unique entity identifier and the Electronic Funds Transfer indicator, (if applicable), the Commercial and Government Entity (CAGE) code, as well as data required by the Federal Funding Accountability and Transparency Act of 2006 (see subpart 4.14), into the SAM database;

* * * * *

Unique entity identifier means a number or other identifier used to identify a specific commercial, non-profit, or Government entity. See www.sam.gov for the designated entity for establishing unique entity identifiers.

* * * * *

PART 4—ADMINISTRATIVE MATTERS

3. Amend section 4.601 by removing the definition “Generic DUNS number” and adding in alphabetical order a definition “Generic entity identifier” to read as follows:

4.601 Definitions.

* * * * *

Generic entity identifier means a number or other identifier assigned to a category of vendors and not specific to any individual or entity.

* * * * *

4. Amend section 4.605 by revising paragraph (b), the heading of paragraph (c), and paragraphs (c)(1), and (c)(2) introductory text; and removing from paragraph (c)(2)(i)(C) “DUNS number” and adding “unique entity identifier” in its place.

The revised text reads as follows.

4.605 Procedures.

* * * * *

(b) Unique entity identifier. The contracting officer shall identify and report a unique entity identifier for the successful offeror on a contract action. The unique entity identifier shall correspond to the successful offeror's name and address as stated in the offer and resultant contract, and as registered in the System for Award Management database in accordance with the provision at 52.204-7, System for Award Management. The contracting officer shall ask the offeror to provide its unique entity identifier by using either the provision at 52.204-6, Unique Entity Identifier, the provision at 52.204-7, System for Award Management, or the provision at 52.212-1, Instructions to Offerors—Commercial Items. (For a discussion of the Commercial and Government Entity (CAGE) Code, which is a different identifier, see subpart 4.18.)

(c) Generic entity identifier. (1) The use of a generic entity identifier should be limited, and only used in the situations described in paragraph (c)(2) of this section. Use of a generic entity identifier does not supersede the requirements of either provisions 52.204-6, Unique Entity Identifier or 52.204-7, System for Award Management (if present in the solicitation) for the contractor to have a unique entity identifier assigned.

(2) Authorized generic entity identifiers, maintained by the Integrated Award Environment (IAE) program office (http://www.gsa.gov/portal/content/105036), may be used to report contracts in lieu of the contractor's actual unique entity identifier only for—

* * * * *

5. Amend section 4.607 by—

a. Removing from paragraph (b) “Data Universal Numbering System Number” and adding “Unique Entity Identifier” in its place; and

b. Revising paragraph (c) to read as follows.

4.607 Solicitation provisions and contract clause.

* * * * *

(c) Insert the clause at 52.204-12, Unique Entity Identifier Maintenance, in solicitations and resulting contracts that contain the provision at 52.204-6, Unique Entity Identifier.

6. Amend section 4.1103 by—

a. Removing from paragraph (a)(1) “must register;” and adding “shall register;” in its place;

b. Removing from paragraph (a)(2) introductory text “DUNS number or, if applicable, the DUNS+4 number” and adding “unique entity identifier” in its place; and

c. Revising paragraphs (a)(3) and (d) to read as follows:

4.1103 Procedures.

(a) * * *

(3) Need not verify registration before placing an order or call if the contract or agreement includes the provision at 52.204-7, System for Award Management, or the clause at 52.212-4, Contract Terms and Conditions-Commercial Items, or a similar agency clause, except when use of the Governmentwide commercial purchase card is contemplated as a method of payment. (See 32.1108(b)(2)).

* * * * *

(d) The contracting officer shall, on contractual documents transmitted to the payment office, provide the unique entity identifier and, if applicable, the Electronic Funds Transfer indicator, in accordance with agency procedures.

4.1402 [Amended]

7. Amend section 4.1402 by removing from paragraph (b), last sentence, “DUNS number” and adding “entity identifier” in its place.

4.1705 [Amended]

8. Amend section 4.1705 by removing from paragraphs (a) and (b) “DUNS number” and adding “entity identifier” in their places.

9. Amend section 4.1800 by revising paragraph (b) to read as follows.

4.1800 Scope of subpart.

* * * * *

(b) For information on the unique entity identifier, which is a different identifier, see 4.605 and the provisions at 52.204-6, Unique Entity Identifier, and 52.204-7, System for Award Management.

10. Amend section 4.1802 by:

a. Revising paragraph (a)(1); and

b. Removing from paragraph (b) “DUNS Number” and adding “unique entity identifier” in its place.

The revised text reads as follows:

4.1802 Policy.

(a) * * * (1) Offerors shall provide the contracting officer the CAGE code assigned to that offeror's location prior to the award of a contract action above the micro-purchase threshold, when there is a requirement to be registered in the System for Award Management (SAM) or a requirement to have a unique entity identifier in the solicitation.

* * * * *

4.1804 [Amended]

11. Amend section 4.1804 by removing from paragraph (a)(1) “Data Universal Numbering System Number” and adding “Unique Entity Identifier” in its place.

PART 9—CONTRACTOR QUALIFICATIONS

12. Amend section 9.404 by revising paragraph (b)(6) to read as follows:

9.404 System for Award Management Exclusions.

* * * * *

(b) * * *

(6) Unique Entity Identifier;

* * * * *

PART 12—ACQUISITION OF COMMERCIAL ITEMS

12.301 [Amended]

13. Amend section 12.301 by removing from paragraphs (d)(1) and (2) “DUNS Number” and adding “unique entity identifier” in their places.

PART 19—SMALL BUSINESS PROGRAMS

19.704 [Amended]

14. Amend section 19.704 by removing from the introductory text of paragraph (a) “must include” and adding “shall include” in its place; and removing from paragraphs (a)(10)(v) and (vi) “DUNS number” and adding “unique entity identifier” in their places.

PART 52—SOLICITATION PROVISIONS AND CONTRACT CLAUSES

15. Revise section 52.204-6 to read as follows.

52.204-6 Unique Entity Identifier.

As prescribed in 4.607(b), insert the following provision:

Unique Entity Identifier (Date)

(a) Definitions.

Electronic Funds Transfer (EFT) indicator, as used in this provision, means a four-character suffix to the unique entity identifier. The suffix is assigned at the discretion of the commercial, non-profit, or Government entity to establish additional System for Award Management records for identifying alternative EFT accounts (see subpart 32.11) for the same entity.

Unique entity identifier, as used in this provision, means a number or other identifier used to identify a specific commercial, non-profit, or Government entity. See www.sam.gov for the designated entity for establishing unique entity identifiers.

(b) The Offeror shall enter, in the block with its name and address on the cover page of its offer, the annotation “Unique Entity Identifier” followed by the unique entity identifier that identifies the Offeror's name and address exactly as stated in the offer. The Offeror also shall enter its EFT indicator, if applicable.

(c) If the Offeror does not have a unique entity identifier, it should contact the entity designated at SAM for establishment of the unique entity identifier directly to obtain one. The Offeror should be prepared to provide the following information:

(1) Company legal business name.

(2) Tradestyle, doing business, or other name by which your entity is commonly recognized.

(3) Company physical street address, city, state and Zip Code.

(4) Company mailing address, city, state and Zip Code (if separate from physical).

(5) Company telephone number.

(6) Date the company was started.

(7) Number of employees at your location.

(8) Chief executive officer/key manager.

(9) Line of business (industry).

(10) Company Headquarters name and address (reporting relationship within your entity).

(End of provision)

16. Amend section 52.204-7 by—

a. Revising the date of the provision;

b. Amending paragraph (a) by—

i. Removing the definitions “Data Universal Numbering System (DUNS) number” and “Data Universal Numbering System +4 (DUNS+4)”;

ii. Adding, in alphabetical order, the definition “Electronic Funds Transfer (EFT) indicator”;

iii. Revising paragraph (1) of the definition “Registered in the System for Award Management (SAM) database”; and

iv. Adding, in alphabetical order, the definition “Unique entity identifier”;

c. Removing from paragraph (b)(1) “the offeror” and adding “the Offeror” in its place; and

d. Revising paragraphs (b)(2) and (c).

The revised and added text reads as follows:

52.204-7 System for Award Management.

* * * * *

System for Award Management (DATE)

(a) Definitions. As used in this provision—

Electronic Funds Transfer (EFT) indicator means a four-character suffix to the unique entity identifier, the suffix is assigned at the discretion of the commercial, non-profit, or Government entity to establish additional System for Award Management records for identifying alternative EFT accounts (see the FAR at subpart 32.11) for the same entity.

Registered in the System for Award Management (SAM) database means that—

(1) The Offeror has entered all mandatory information, including the unique entity identifier and the EFT indicator, if applicable, the Commercial and Government Entity (CAGE) code, as well as data required by the Federal Funding Accountability and Transparency Act of 2006 (see subpart 4.14) into the SAM database;

* * * * *

Unique entity identifier means a number or other identifier used to identify a specific commercial, non-profit, or Government entity. See www.sam.gov for the designated entity for establishing unique entity identifiers.

(b) * * *

(2) The Offeror shall enter, in the block with its name and address on the cover page of its offer, the annotation Unique Entity Identifier followed by the unique entity identifier that identifies the Offeror's name and address exactly as stated in the offer. The Offeror also shall enter its EFT indicator, if applicable. The unique entity identifier will be used by the Contracting Officer to verify that the Offeror is registered in the SAM database.

(c) If the Offeror does not have a unique entity identifier, it should contact the entity designated at SAM for establishment of the unique entity identifier directly to obtain one. The Offeror should be prepared to provide the following information:

(1) Company legal business.

(2) Tradestyle, doing business, or other name by which your entity is commonly recognized.

(3) Company Physical Street Address, City, State, and Zip Code.

(4) Company Mailing Address, City, State and Zip Code (if separate from physical).

(5) Company Telephone Number.

(6) Date the company was started.

(7) Number of employees at your location.

(8) Chief executive officer/key manager.

(9) Line of business (industry).

(10) Company Headquarters name and address (reporting relationship within your entity).

* * * * *

17. Amend section 52.204-10 by—

a. Revising the date of the clause; and

b. Removing from paragraph (d)(2)(i) “identifier (DUNS Number)” and adding “entity identifier” in its place.

The revised text reads as follows:

52.204-10 Reporting Executive Compensation and First-Tier Subcontract Awards.

* * * * *

Reporting Executive Compensation and First-Tier Subcontract Awards (DATE)

* * * * *

18. Revise section 52.204-12 to read as follows.

52.204-12 Unique Entity Identifier.

As prescribed in 4.607(c), insert the following clause:

Unique Entity Identifier (DATE)

(a) Definition. Unique entity identifier, as used in this clause, means a number or other identifier used to identify a specific commercial, non-profit, or Government entity. See www.sam.gov for the designated entity for establishing unique entity identifiers.

(b) The Contractor shall ensure that the unique entity identifier is maintained with the entity designated at the System for Award Management (SAM) for establishment of the unique entity identifier throughout the life of the contract. The Contractor shall communicate any change to the unique entity identifier to the Contracting Officer within 30 days after the change, so an appropriate modification can be issued to update the data on the contract. A change in the unique entity identifier does not necessarily require a novation be accomplished.

(End of clause)

19. Amend section 52.204-13 by—

a. Revising the date of the clause;

b. Amending paragraph (a) by—

i. Removing the definitions “Data Universal Numbering System (DUNS) number” and “Data Universal Numbering System +4 (DUNS+4)”;

ii. Adding, in alphabetical order, the definition “Electronic Funds Transfer (EFT) indicator”;

iii. Revising paragraph (1) of the definition “Registered in the System for Award Management (SAM) database”; and

iv. Adding, in alphabetical order, the definition “Unique entity identifier”; and

c. Revising paragraph (c)(3).

The revised and added text reads as follows:

52.204-13 System for Award Management Maintenance.

* * * * *

System for Award Management Maintenance (DATE)

(a) * * *

Electronic Funds Transfer (EFT) indicator means a four-character suffix to the unique entity identifier. The suffix is assigned at the discretion of the commercial, non-profit, or Government entity to establish additional System for Award Management (SAM) records for identifying alternative EFT accounts (see the FAR at subpart 32.11) for the same entity.

Registered in the System for Award Management (SAM) database means that—

(1) The Contractor has entered all mandatory information, including the unique entity identifier (if applicable) or the EFT indicator, the Commercial and Government Entity (CAGE) code, as well as data required by the Federal Funding Accountability and Transparency Act of 2006 (see subpart 4.14), into the SAM database;

* * * * *

Unique entity identifier means a number or other identifier used to identify a specific commercial, non-profit, or Government entity. See www.sam.gov for the designated entity for establishing unique entity identifiers.

* * * * *

(c) * * *

(3) The Contractor shall ensure that the unique entity identifier is maintained with the entity designated at SAM for establishment of the unique entity identifier throughout the life of the contract. The Contractor shall communicate any change to the unique entity identifier to the Contracting Officer within 30 days after the change, so an appropriate modification can be issued to update the data on the contract. A change in the unique entity identifier does not necessarily require a novation be accomplished.

* * * * *

20. Amend section 52.204-14 by—

a. Revising the date of the clause; and

b. Removing from paragraph (f)(1)(i), “DUNS number” and adding “unique entity identifier” in its place.

The revised text reads as follows:

52.204-14 Service Contract Reporting Requirements.

* * * * *

Service Contract Reporting Requirements (DATE)

* * * * *

21. Amend section 52.204-15 by—

a. Revising the date of the clause; and

b. Removing from paragraph (f)(1)(i) “DUNS number” and adding “unique entity identifier” in its place.

The revised text reads as follows:

52.204-15 Service Contract Reporting Requirements for Indefinite-Delivery Contracts.

* * * * *

Service Contract Reporting Requirements for Indefinite-Delivery Contracts (DATE)

* * * * *

22. Amend section 52.212-1 by revising the date of the provision and paragraph (j) to read as follows:

52.212-1 Instructions to Offerors—Commercial Items.

* * * * *

Instructions to Offerors-Commercial Items (DATE)

* * * * *

(j) Unique entity identifier. (Applies to all offers exceeding $3,500, and offers of $3,500 or less if the solicitation requires the Contractor to be registered in the System for Award Management (SAM) database.) The Offeror shall enter, in the block with its name and address on the cover page of its offer, the annotation “unique entity identifier”. The suffix is followed by the unique entity identifier that identifies the Offeror's name and address. The Offeror also shall enter its Electronic Funds Transfer (EFT) indicator, if applicable. The EFT indicator is a four-character suffix to the unique entity identifier assigned at the discretion of the offeror to establish additional SAM records for identifying alternative EFT accounts (see FAR subpart 32.11) for the same entity. If the Offeror does not have a unique entity identifier, it should contact the entity designated at SAM for unique entity identifier establishment directly to obtain one. The offeror should indicate that it is an offeror for a Government contract when contacting the entity designated at SAM for establishing the unique entity identifier.

* * * * *

23. Amend section 52.212-3 by—

a. Revising the date of the provision; and

b. Removing from paragraph (p) introductory text “DUNS Number” and adding “unique entity identifier” in its place.

The revised text reads as follows:

52.212-3 Offeror Representations and Certifications-Commercial Items.

* * * * *

Offeror Representations and Certifications-Commercial Items (DATE)

* * * * *

24. Amend section 52.212-5 by revising the date of the clause and paragraphs (b)(4), (b)(6), (b)(7), and (b)(17)(i) to read as follows:

52.212-5 Contract Terms and Conditions Required to Implement Statutes or Executive Orders-Commercial Items.

* * * * *

Contract Terms and Conditions Required to Implement Statutes or Executive Orders-Commercial Items (DATE)

* * * * *

(b) * * *

_ (4)52.204-10, Reporting Executive Compensation and First-Tier Subcontract Awards (DATE) (Pub. L. 109-282) (31 U.S.C. 6101 note).

* * * * *

_ (6)52.204-14, Service Contract Reporting Requirements (DATE) (Pub. L. 111-117, section 743 of Div. C).

_ (7)52.204-15, Service Contract Reporting Requirements for Indefinite-Delivery Contracts (DATE) (Pub. L. 111-117, section 743 of Div. C).

* * * * *

_ (17)(i)52.219-9, Small Business Subcontracting Plan (DATE) (15 U.S.C. 637(d)(4)).

* * * * *

25. Amend section 52.213-4 by revising the date of the clause and paragraph (b)(1)(i) to read as follows:

52.213-4 Terms and Conditions—Simplified Acquisitions (Other Than Commercial Items).

* * * * *

Terms and Conditions-Simplified Acquisitions (Other Than Commercial Items) (DATE)

* * * * *

(b) * * *

(1) * * *

(i) 52.204-10, Reporting Executive Compensation and First-Tier Subcontract Awards (DATE) (Pub. L. 109-282) (31 U.S.C. 6101 note) (Applies to contracts valued at $25,000 or more).

* * * * *

26. Amend section 52.219-9 by—

a. Revising the date of the clause;

b. Removing from the introductory text of paragraph (d) “offeror's” and adding “Offeror's” in its place;

c. Removing from paragraph (d)(10) introductory text “offeror” and adding “Offeror” in its place;

d. Removing from paragraph (d)(10)(v) “DUNS number,” and “the offeror's” and adding “unique entity identifier,” and “the Offeror's” in their places, respectively; and

e. Removing from paragraph (d)(10)(vi) “DUNS number,” and adding “unique entity identifier,” in its place.

The revised text reads as follows:

52.219-9 Small Business Subcontracting Plan.

* * * * *

Small Business Subcontracting Plan (DATE)

* * * * *

[FR Doc. 2015-29414 Filed 11-17-15; 8:45 am]

BILLING CODE 6820-EP-P